DEPARTMENT OF HEALTH AND HUMAN SERVICES

Centers for Disease Control and Prevention

[Request for Application (RFA) AA014]

Supporting Laboratory Training and Quality Improvement for Diagnosis and Laboratory Monitoring of HIV/AIDS Patients in Resource Limited Countries Through Collaboration With the American Society for Clinical Pathology (ASCP); Notice of Intent To Fund Single Eligibility Award

A. Purpose

The Centers for Disease Control and Prevention (CDC) announces the intent to award fiscal year (FY) 2005 funds for a cooperative agreement program to support laboratory training and quality improvement for diagnosis and laboratory monitoring of HIV/AIDS patients in resource-limited countries that are part of the President's Emergency Plan for AIDS Relief (PEPFAR). Ultimately, this program will serve to enhance laboratory testing practices, and enhance the quality of laboratory testing services, in order to improve the effectiveness of HIV diagnostic, care, and treatment services and interventions. The Catalog of Federal Domestic Assistance number for this program is 93.067.

B. Eligible Applicant

Assistance will be provided only to the American Society for Clinical Pathology (ASCP) for this project. No other applications are solicited or will be accepted. ASCP is a not-for-profit organization that has the largest and most unique data base of certified medical laboratory testing personnel. ASCP will be the only eligible applicant for the following reasons:

1. ASCP is the largest and most influential leader in the certification of Medical Technologists (MTs) and Medical Laboratory Technicians (MLTs) in the world.

2. ASCP is the world's largest organization representing the entire laboratory team of pathologists, clinical scientists, MTs and MLTs.

3. The Board of Registry (BOR) at ASCP has issued more than 340,000 certificates to date, since ASCP began in the late 1920's, and their unique data base of certified laboratorians comprise the largest majority of the medical laboratory work force in the U.S.

4. The ASCP BOR prepares appropriate standards and develops procedures to assure the competence of laboratory personnel.

5. The ASCP BOR certifies MTs and other medical laboratory personnel who meet specific academic and clinical prerequisites and who can attain acceptable performance levels through examination (e.g., MT ASCP certification).

6. Additionally, ASCP has developed and maintains the largest continuing education activity in the world by offering courses targeted for pathologists and laboratory personnel to assure competency.

7. ASCP provides extensive venues for continuing education for pathologists and laboratory personnel, including web-based programs, teleconferences, on-site education programs, and regional and national settings.

PEPFAR activities focus on responding to an emergency situation while building long-term in-country capacity. Because of the complexity of the laboratory needs in each of the countries targeted, the number of countries (25) and regional programs (3) involved, the organization chosen to provide support should have both the technical competence and capacity to provide high quality simultaneous support to multiple countries. Selecting ASCP as the only eligible applicant is justified because of their vast membership and outstanding technical competence. Market research, through internet searches and interviews with leaders of laboratory service providers in international settings, indicates that ASCP is the only organization that is in a position to provide the required services to multiple countries simultaneously at the greatest value-for-service to the United States Government.

C. Funding

Approximately $2,000,000 is available in FY 2005 to fund this award. It is expected that the award will begin on or before August 31, 2005, and will be made for a 12-month budget period within a project period of up to four years. Funding estimates may change.

D. Where to Obtain Additional Information

For general comments or questions about this announcement, contact: Technical Information Management, CDC Procurement and Grants Office, 2920 Brandywine Road, Atlanta, GA 30341-4146, Telephone: 770-488-2700.

For program technical assistance, contact: Elyse Hill, Project Officer, CDC/NCHSTP/GAP, 1600 Clifton Road, NE (MS-E30), Atlanta, GA 30333, Telephone: 404-639-8181, E-mail: elh8@cdc.gov.

For financial, grants management, or budget assistance, contact: Diane Flournoy, Contract Specialist, CDC Procurement and Grants Office, 2920 Brandywine Road, Atlanta, GA 30341, Telephone: 770-488-2072, E-mail: dmf6@cdc.gov.

Dated: June 17, 2005.
William P. Nichols,
Director, Procurement and Grants Office, Centers for Disease Control and Prevention.

[FR Doc. 05-12412 Filed 6-22-05; 8:45 am]

BILLING CODE 4163-18-P